COUNCIL ON ENVIRONMENTAL QUALITY

Annual Report on Endangered Species Act Exemption

AGENCY: Council on Environmental Quality, Executive Office of the President.

ACTION: Availability of report.

SUMMARY: This notice announces the availability of the Annual Report submitted by Basin Electric Power Cooperative, as Project Manager for the Missouri Basin Power Project in the matter of an exemption granted from the requirements of the Endangered Species Act to Grayrocks Dam. The lead federal agency in the project is the Rural Electrification Administration.

DATES: The report was submitted to the Council in November, 1999.

ADDRESSES: The Annual Report is available from Basin Electric Power Cooperative, 1717 East Interstate Avenue, Bismarck, ND 58501-0564; Telephone: (701) 223-0441.

FOR FURTHER INFORMATION CONTACT: Dinah Bear, General Counsel, Council on Environmental Quality, 722 Jackson Place, NW., Washington, DC 20503; Telephone (202) 395-7421.

SUPPLEMENTARY INFORMATION: Under the Endangered Species Act, any agency granted an exemption under 16 U.S.C. § 1536(h) must submit to the Council on Environmental Quality an annual report describing its compliance methods with the mitigation and enhancement measures prescribed by 16 U.S.C. § 1536. See 16 U.S.C. § 1536(1)(2). This sub-section further requires that the Council publish availability of the report in the Federal Register.

On February 7, 1979, the Endangered Species Committee granted an exemption from the requirements of the Endangered Species Act to Grayrocks Dam. In granting the Exemption Order, the committee, as required by the act, established requirements for reasonable mitigation and enhancement measures. These requirements are set out in an “Agreement of Settlement and Compromise” and is part of the Annual Report announced here.

Dated: July 10, 2000.
George T. Frampton,
Acting Chair.

[FR Doc. 00-18384 Filed 7-20-00; 8:45 am]

BILLING CODE 3125-01-M